DEPARTMENT OF HEALTH AND HUMAN SERVICES

National Institutes of Health

National Cancer Institute: Amended Notice of Meeting

Notice is hereby given of a change in the meeting of the National Cancer Advisory Board, December 01, 2014, 06:00 p.m. to December 02, 2014, 06:00 p.m., National Institutes of Health, Building 31, 31 Center Drive, Bethesda, MD, 20892 which was published in the Federal Register on November 03, 2014, 79FR65221.

This meeting is being amended to cancel the ad Hoc Subcommittee on Global Cancer Research meeting being held on December 1, 2014 from 06:00 p.m. to 07:30 p.m. The meeting is partially closed to the public.

Dated: November 10, 2014.
Melanie J. Gray,
Program Analyst, Office of Federal Advisory Committee Policy.

[FR Doc. 2014-27057 Filed 11-13-14; 8:45 am]

BILLING CODE 4140-01-P